DEPARTMENT OF HEALTH AND HUMAN SERVICES

Centers for Medicare & Medicaid Services

42 CFR Part 412

[CMS-1606-CN]

RIN 0938-AS08

Medicare Program; Inpatient Psychiatric Facilities Prospective Payment System—Update for Fiscal Year Beginning October 1, 2014 (FY 2015); Correction

AGENCY: Centers for Medicare & Medicaid Services (CMS), HHS.

ACTION: Correction of final rule.

SUMMARY: This document corrects technical errors that appeared in the final rule published in the Federal Register on August 6, 2014 entitled “Inpatient Psychiatric Facilities Prospective Payment System—Update for Fiscal Year Beginning October 1, 2014 (FY 2015); Final Rule.”

DATES: Effective October 1, 2015.

FOR FURTHER INFORMATION CONTACT: Katherine Lucas or Jana Lindquist,

(410) 786-7723.

SUPPLEMENTARY INFORMATION:

I. Background

In FR Doc. 2014-18329 of August 6, 2014 (79 FR 45938), there were a number of technical errors that are identified in the Summary of Errors section (section II), and corrected in the Correction of Errors section (section IV). The provisions in this correction document, which relate to the inpatient psychiatric facilities (IPF) prospective payment system (PPS) ICD-10-CM diagnosis coding conversion for comorbidities, are effective as if they had been included in the document published August 06, 2014 (FY 2015 IPF PPS final rule). While the FY 2015 IPF PPS final rule had an effective date of October 1, 2014, the implementation of the ICD-10 code sets does not occur until October 1, 2015. Accordingly, the corrections in this document will be effective on the October 1, 2015 ICD-10 implementation date.

The FY 2015 IPF PPS final rule was effective October 1, 2014 for all updates and changes, except for the conversion of ICD-9-CM codes to ICD-10-CM codes. We noted in that final rule (79 FR 45945) that on April 1, 2014, the Protecting Access to Medicare Act of 2014 (PAMA) (Pub. L. 113-93) was enacted. Section 212 of PAMA, titled “Delay in Transition from ICD-9 to ICD-10 Code Sets,” provides that “[t]he Secretary of Health and Human Services may not, prior to October 1, 2015, adopt ICD-10 code sets as the standard for code sets under section 1173(c) of the Social Security Act (42 U.S.C. 1320d-2(c)) and section 162.1002 of title 45, Code of Federal Regulations.” We indicated that, in light of PAMA, the effective date of changes from ICD-9 to ICD-10 for the IPF PPS would be the date when ICD-10 becomes the required medical data code set for use on Medicare claims.

In that FY 2015 IPF PPS final rule (79 FR 45945), we also stated that on May 1, 2014, the Department announced that, in light of section 212 of PAMA, “the U.S. Department of Health and Human Services expects to release an interim final rule in the near future that will include a new compliance date that would require the use of ICD-10 beginning October 1, 2015.” The Department asserted that the interim final rule would also require HIPAA covered entities to continue to use ICD-9-CM through September 30, 2015. Therefore, we explained that we will continue to require use of the ICD-9-CM codes for reporting the MS-DRG and comorbidity adjustment factors for IPF services through FY 2015, and that we will require the use of ICD-10 codes beginning October 1, 2015 (79 FR 45945). The final rule “Administrative Simplification: Change to the Compliance Date for the International Classification of Diseases, 10th Revision (ICD-10-CM and ICD-10-PCS) Medical Data Code Sets” was published in the Federal Register on August 4, 2014, and finalized the compliance date for ICD-10 as October 1, 2015 (79 FR 45128).

II. Summary of Errors

Payment for Comorbid Conditions

The IPF PPS includes a comorbidity payment adjustment. The intent of the comorbidity adjustment is to recognize the increased costs associated with comorbid conditions by providing additional payments for certain concurrent medical or psychiatric conditions that are expensive to treat. In the May 2011 IPF PPS final rule (76 FR 26451 through 26452), we explained that the IPF PPS includes 17 comorbidity categories and identified the new, revised, and deleted ICD-9-CM diagnosis codes that generated a comorbid condition payment adjustment under the IPF PPS for RY 2012 (76 FR 26451).

In Table 7 of the FY 2015 IPF PPS final rule, the 17 comorbidity categories defined using ICD-9-CM codes were converted to ICD-10-CM codes (79 FR 45953). We discovered the following eight technical errors in ICD-10-CM codes or code ranges listed in Table 7 of the FY 2015 IPF PPS final rule, which we are correcting. These eight errors were typographic errors which we are correcting to conform to the policies adopted in the FY 2015 IPF PPS final rule, and do not reflect any substantive policy changes:

(1) From the “Oncology Treatment” comorbidity category on page 45953, “C000 through C4002” should read “C000 through C399, C4001, C4002.

(2) From the “Oncology Treatment” comorbidity category on page 45953, “C44191” is being removed.

(3) From the “Oncology Treatment” comorbidity category on page 45953, “D225 through D2261” should read “D225, D2261,”

(4) From the “Oncology Treatment” comorbidity category on page 45953, “D3192 through D485” should read “D3192 through D471.”

(5) From the “Oncology Treatment” comorbidity category on page 45953, “D4861 through D471” should read “D4861 through D499.”

(6) From the “Oncology Treatment” comorbidity category on page 45953, “D479 through D499” should read “D479.”

(7) From the “Oncology Treatment” comorbidity category on page 45953, “D47Z1 through D47Z9” should read “D47Z1, D47Z9.”

(8) From the “Infectious Disease” comorbidity category on page 45954, “R1111” is being removed.

Additionally, IPF providers and software companies asked us to make the table more user-friendly by listing each ICD-10-CM code individually, rather than showing the ICD-10-CM code ranges, as originally presented in Table 7 of the FY 2015 IPF PPS final rule. As such, we are republishing Table 7 in its entirety with each ICD-10-CM code listed individually rather than shown in a range, after incorporating the eight corrections noted above. We have also posted Table 7 on the IPF PPS Web site, under the “Tools and Worksheets” link at: https://www.cms.gov/Medicare/Medicare-Fee-for-Service-Payment/InpatientPsychFacilPPS/tools.html.

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefor in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

In our view, this correction document does not constitute a rulemaking that would be subject to these requirements. This correction document corrects technical errors in a table included in the FY 2015 IPF PPS final rule. The corrections contained in this document are consistent with, and do not make substantive changes to, the policies and payment methodologies that were adopted and subjected to notice and comment procedures in the FY 2015 IPF PPS final rule. As a result, the corrections made through this correction document are intended to ensure that the FY 2015 IPF PPS final rule accurately reflects the policies adopted in that rule.

Even if this were a rulemaking to which the notice and comment and delayed effective date requirements applied, we find there is good cause to waive such requirements. Undertaking further notice and comment procedures to incorporate the corrections in this document into the FY 2015 IPF PPS final rule or delaying the effective date would be contrary to the public interest because it is in the public's interest for providers and suppliers to receive appropriate payments in as timely a manner as possible, and to ensure that the FY 2015 IPF PPS final rule accurately reflects our policies as of the date they take effect and are applicable. Further, such procedures would be unnecessary, because we are not altering the payment methodologies or policies, but rather, we are simply correctly implementing the policies that we previously proposed, received comment on, and subsequently finalized. This correction document is intended solely to ensure that the FY 2015 IPF PPS final rule accurately reflects these payment methodologies and policies. For these reasons, we believe we have good cause to waive the notice and comment and effective date requirements.

IV. Correction of Errors

In FR Doc. 2014-18329 of August 6, 2014 (79 FR 45938), make the following corrections:

1. On pages 45953 through 45955, “Table 7—FY 2015 Diagnosis Codes and Adjustment Factors for Comorbidity Categories,” the table is corrected to read as follows:

Table 7—FY 2015 Diagnosis Codes and Adjustment Factors for Comorbidity Categories
Description of comorbidity | ICD-10-CM diagnoses codes | Adjustment factor
Developmental Disabilities | F70, F71, F72, F73, F78, and F79 | 1.04
Coagulation Factor Deficits | D66, D67, D680, D681, and D682 | 1.13
Tracheostomy | J9500, J9501, J9502, J9503, J9504, J9509, and Z930 | 1.06
Renal Failure, Acute | N170, N171, N172, N178, N179, O0482, O0732, O084, O904, and T795XXA | 1.11
Renal Failure, Chronic | I120, I1311, I132, N183, N184, N185, N186, N189, N19, Z4901, Z4902, Z4931, Z9115, and Z992 | 1.11
Oncology Treatment | C000, C001, C002, C003, C004, C005, C006, C008, C01, C020, C021, C022, C023, C024, C028, C030, C031, C040, C041, C048, C050, C051, C052, C058, C060, C061, C062, C0680, C0689, C07, C080, C081, C089, C090, C091, C098, C099, C100, C101, C102, C103, C104, C108, C109, C110, C111, C112, C113, C118, C119, C12, C130, C131, C132, C138, C139, C140, C142, C148, C153, C154, C155, C158, C159, C160, C161, C162, C163, C164, C165, C166, C168, C169, C170, C171, C172, C173, C178, C179, C180, C181, C182, C183, C184, C185, C186, C187, C188, C189, C19, C20, C210, C211, C212, C218, C220, C221, C222, C223, C224, C227, C228, C229, C23, C240, C241, C248, C249, C250, C251, C252, C253, C254, C257, C258, C259, C260, C261, C269, C300, C301, C310, C311, C312, C313, C318, C319, C320, C321, C322, C323, C328, C329, C33, C3400, C3401, C3402, C3410, C3411, C3412, C342, C3430, C3431, C3432, C3480, C3481, C3482, C3491, C3492, C37, C380, C381, C382, C383, C384, C388, C390, C399, C4001, C4002, C4011, C4012, C4021, C4022, C4031, C4032, C4081, C4082, C4091, C4092, C410, C411, C412, C413, C414, C419, C430, C4311, C4312, C4321, C4322, C4330, C4331, C4339, C434, C4351, C4352, C4359, C4361, C4362, C4371, C4372, C438, C4400, C4401, C4402, C4409, C44102, C44109, C44112, C44119, C44122, C44129, C44192, C44199, C44202, C44209, C44212, C44219, C44222, C44229, C44291, C44292, C44299, C44300, C44301, C44309, C44310, C44311, C44319, C44320, C44321, C44329, C44390, C44391, C44399, C4440, C4441, C4442, C4449, C44500, C44501, C44509, C44510, C44511, C44519, C44520, C44521, C44529, C44590, C44591, C44599, C44602, C44609, C44612, C44619, C44622, C44629, C44692, C44699, C44702, C44709, C44712, C44719, C44722, C44729, C44792, C44799, C4480, C4481, C4482, C4489, C450, C451, C452, C457, C459, C460, C461, C462, C463, C464, C4650, C4651, C4652, C467, C469, C470, C4711, C4712, C4721, C4722, C473, C474, C475, C476, C478, C480, C481, C482, C488, C490, C4911, C4912, C4921, C4922, C493, C494, C495, C496, C498, C4A0, C4A11, C4A12, C4A21, C4A22, C4A30, C4A31, C4A39, C4A4, C4A51, C4A52, C4A59, C4A61, C4A62, C4A71, C4A72, C4A8, C50011, C50012, C50021, C50022, C50111, C50112, C50121, C50122, C50211, C50212, C50221, C50222, C50311, C50312, C50321, C50322, C50411, C50412, C50421, C50422, C50511, C50512, C50521, C50522, C50611, C50612, C50621, C50622, C50811, C50812, C50821, C50822, C50911, C50912, C50921, C50922, C510, C511, C512, C518, C519, C52, C530, C531, C538, C539, C540, C541, C542, C543, C548, C549, C55, C561, C562, C569, C5700, C5701, C5702, C5710, C5711, C5712, C5720, C5721, C5722, C573, C574, C577, C578, C58, C600, C601, C602, C608, C609, C61, C6200, C6201, C6202, C6210, C6211, C6212, C6291, C6292, C6300, C6301, C6302, C6310, C6311, C6312, C632, C637, C638, C641, C642, C651, C652, C659, C661, C662, C669, C670, C671, C672, C673, C674, C675, C676, C677, C678, C679, C680, C681, C688, C689, C6901, C6902, C6911, C6912, C6920, C6921, C6922, C6930, C6931, C6932, C6940, C6941, C6942, C6951, C6952, C6961, C6962, C6981, C6982, C6991, C6992, C700, C701, C709, C710, C711, C712, C713, C714, C715, C716, C717, C718, C719, C720, C721, C7220, C7221, C7222, C7230, C7231, C7232, C7240, C7241, C7242, C7250, C7259, C73, C7400, C7401, C7402, C7410, C7411, C7412, C7491, C7492, C750, C751, C752, C753, C754, C755, C758, C759, C760, C761, C762, C763, C7641, C7642, C7651, C7652, C768, C770, C771, C772, C773, C774, C775, C778, C7800, C7801, C7802, C781, C782, C7830, C7839, C784, C785, C786, C787, C7880, C7889, C7900, C7901, C7902, C7910, C7911, C7919, C792, C7931, C7932, C7940, C7949, C7951, C7952, C7960, C7961, C7962, C7970, C7971, C7972, C7981, C7982, C7989, C7A00, C7A010, C7A011, C7A012, C7A019, C7A020, C7A021, C7A022, C7A023, C7A024, C7A025, C7A026, C7A029, C7A090, C7A091, C7A092, C7A093, C7A094, C7A095, C7A096, C7A098, C7A1, C7A8, C7B00, C7B01, C7B02, C7B03, C7B04, C7B09, C7B1, C7B8, C800, C801, C802, C8100, C8101, C8102, C8103, C8104, C8105, C8106, C8107, C8108, C8109, C8110, C8111, C8112, C8113, C8114, C8115, C8116, C8117, C8118, C8119, C8120, C8121, C8122, C8123, C8124, C8125, C8126, C8127, C8128, C8129, C8130, C8131, C8132, C8133, C8134, C8135, C8136, C8137, C8138, C8139, C8140, C8141, C8142, C8143, C8144, C8145, C8146, C8147, C8148, C8149, C8170, C8171, C8172, C8173, C8174, C8175, C8176, C8177, C8178, C8179, C8190, C8191, C8192, C8193, C8194, C8195, C8196, C8197, C8198, C8199, C8200, C8201, C8202, C8203, C8204, C8205, C8206, C8207, C8208, C8209, C8210, C8211, C8212, C8213, C8214, C8215, C8216, C8217, C8218, C8219, C8220, C8221, C8222, C8223, C8224, C8225, C8226, C8227, C8228, C8229, C8230, C8231, C8232, C8233, C8234, C8235, C8236, C8237, C8238, C8239, C8240, C8241, C8242, C8243, C8244, C8245, C8246, C8247, C8248, C8249, C8250, C8251, C8252, C8253, C8254, C8255, C8256, C8257, C8258, C8259, C8260, C8261, C8262, C8263, C8264, C8265, C8266, C8267, C8268, C8269, C8280, C8281, C8282, C8283, C8284, C8285, C8286, C8287, C8288, C8289, C8290, C8291, C8292, C8293, C8294, C8295, C8296, C8297, C8298, C8299, C8300, C8301, C8302, C8303, C8304, C8305, C8306, C8307, C8308, C8309, C8310, C8311, C8312, C8313, C8314, C8315, C8316, C8317, C8318, C8319, C8330, C8331, C8332, C8333, C8334, C8335, C8336, C8337, C8338, C8339, C8350, C8351, C8352, C8353, C8354, C8355, C8356, C8357, C8358, C8359, C8370, C8371, C8372, C8373, C8374, C8375, C8376, C8377, C8378, C8379, C8380, C8381, C8382, C8383, C8384, C8385, C8386, C8387, C8388, C8389, C8390, C8391, C8392, C8393, C8394, C8395, C8396, C8397, C8398, C8399, C8400, C8401, C8402, C8403, C8404, C8405, C8406, C8407, C8408, C8409, C8410, C8411, C8412, C8413, C8414, C8415, C8416, C8417, C8418, C8419, C8440, C8441, C8442, C8443, C8444, C8445, C8446, C8447, C8448, C8449, C8460, C8461, C8462, C8463, C8464, C8465, C8466, C8467, C8468, C8469, C8470, C8471, C8472, C8473, C8474, C8475, C8476, C8477, C8478, C8479, C8490, C8491, C8492, C8493, C8494, C8495, C8496, C8497, C8498, C8499, C84A0, C84A1, C84A2, C84A3, C84A4, C84A5, C84A6, C84A7, C84A8, C84A9, C84Z0, C84Z1, C84Z2, C84Z3, C84Z4, C84Z5, C84Z6, C84Z7, C84Z8, C84Z9, C8510, C8511, C8512, C8513, C8514, C8515, C8516, C8517, C8518, C8519, C8520, C8521, C8522, C8523, C8524, C8525, C8526, C8527, C8528, C8529, C8580, C8581, C8582, C8583, C8584, C8585, C8586, C8587, C8588, C8589, C8590, C8591, C8592, C8593, C8594, C8595, C8596, C8597, C8598, C8599, C860, C861, C862, C863, C864, C865, C866, C882, C883, C884, C888, C889, C9000, C9001, C9002, C9010, C9011, C9012, C9020, C9021, C9022, C9030, C9031, C9032, C9100, C9101, C9102, C9110, C9111, C9112, C9130, C9131, C9132, C9140, C9141, C9142, C9150, C9151, C9152, C9160, C9161, C9162, C9190, C9191, C9192, C91A0, C91A1, C91A2, C91Z0, C91Z1, C91Z2, C9200, C9201, C9202, C9210, C9211, C9212, C9220, C9221, C9222, C9230, C9231, C9232, C9240, C9241, C9242, C9250, C9251, C9252, C9260, C9261, C9262, C9290, C9291, C9292, C92A0, C92A1, C92A2, C92Z0, C92Z1, C92Z2, C9300, C9301, C9302, C9310, C9311, C9312, C9330, C9331, C9332, C9390, C9391, C9392, C93Z0, C93Z1, C93Z2, C9400, C9401, C9402, C9420, C9421, C9422, C9430, C9431, C9432, C9440, C9441, C9442, C946, C9480, C9481, C9482, C9500, C9501, C9502, C9510, C9511, C9512, C9590, C9591, C9592, C960, C962, C964, C969, C96A, C96Z, D0000, D0001, D0002, D0003, D0004, D0005, D0006, D0007, D0008, D001, D002, D010, D011, D012, D013, D0140, D0149, D015, D017, D019, D020, D021, D0220, D0221, D0222, D023, | 1.07
| D024, D030, D0311, D0312, D0321, D0322, D0330, D0339, D034, D0351, D0352, D0359, D0361, D0362, D0371, D0372, D038, D039, D040, D0411, D0412, D0421, D0422, D0430, D0439, D044, D045, D0461, D0462, D0471, D0472, D048, D049, D0501, D0502, D0511, D0512, D0581, D0582, D0591, D0592, D060, D061, D067, D069, D070, D071, D072, D0730, D0739, D074, D075, D0760, D0761, D0769, D090, D0910, D0919, D0921, D0922, D093, D098, D099, D100, D101, D102, D1030, D1039, D104, D105, D106, D107, D109, D110, D117, D119, D120, D121, D122, D123, D124, D125, D126, D127, D128, D129, D130, D131, D132, D1330, D1339, D134, D135, D136, D137, D139, D140, D141, D142, D1430, D1431, D1432, D144, D150, D151, D152, D157, D159, D1601, D1602, D1611, D1612, D1621, D1622, D1631, D1632, D164, D165, D166, D167, D168, D169, D170, D171, D1721, D1722, D1723, D1724, D1730, D1739, D174, D175, D176, D1771, D1772, D1779, D179, D1800, D1801, D1802, D1803, D1809, D181, D190, D191, D197, D199, D200, D201, D210, D2111, D2112, D2121, D2122, D213, D214, D215, D216, D219, D220, D2211, D2212, D2221, D2222, D2230, D2239, D224, D225, D2261, D2262, D2271, D2272, D229, D230, D2311, D2312, D2321, D2322, D2330, D2339, D234, D235, D2361, D2362, D2371, D2372, D239, D241, D242, D250, D251, D252, D259, D260, D261, D267, D269, D270, D271, D279, D280, D281, D282, D287, D289, D290, D291, D2920, D2921, D2922, D2930, D2931, D2932, D294, D298, D299, D3000, D3001, D3002, D3010, D3011, D3012, D3020, D3021, D3022, D303, D304, D308, D309, D3101, D3102, D3110, D3111, D3112, D3120, D3121, D3122, D3130, D3131, D3132, D3140, D3141, D3142, D3151, D3152, D3161, D3162, D3191, D3192, D320, D321, D329, D330, D331, D332, D333, D334, D337, D339, D34, D3500, D3501, D3502, D351, D352, D353, D354, D355, D356, D357, D359, D360, D3610, D3611, D3612, D3613, D3614, D3615, D3616, D3617, D367, D369, D3701, D3702, D37030, D37031, D37032, D37039, D3704, D3705, D3709, D371, D372, D373, D374, D375, D376, D378, D379, D380, D381, D382, D383, D384, D385, D386, D390, D3910, D3911, D3912, D392, D398, D399, D3A00, D3A010, D3A011, D3A012, D3A019, D3A020, D3A021, D3A022, D3A023, D3A024, D3A025, D3A026, D3A029, D3A090, D3A091, D3A092, D3A093, D3A094, D3A095, D3A096, D3A098, D3A8, D400, D4010, D4011, D4012, D408, D409, D4100, D4101, D4102, D4110, D4111, D4112, D4120, D4121, D4122, D413, D414, D418, D419, D420, D421, D429, D430, D431, D432, D433, D434, D438, D439, D440, D4410, D4411, D4412, D442, D443, D444, D445, D446, D447, D449, D45, D460, D461, D4620, D4621, D4622, D464, D469, D46A, D46B, D46C, D46Z, D470, D471, D473, D479, D47Z1, D47Z9, D480, D481, D482, D483, D484, D485, D4861, D4862, D487, D489, D490, D491, D492, D493, D494, D495, D496, D497, D4981, D4989, D499, K317, K635, Q8500, Q8501, Q8502, Q8503, and Q8509, with a radiation therapy or chemotherapy code from ICD-10-PCS: 08H031Z, 08H0X1Z, 08H131Z, 08H1X1Z, 0BH001Z, 0BH031Z, 0BH041Z, 0BH071Z, 0BH081Z, 0BHK01Z, 0BHK31Z, 0BHK41Z, 0BHK71Z, 0BHK81Z, 0BHL01Z, 0BHL31Z, 0BHL41Z, 0BHL71Z, 0BHL81Z, 0CH701Z, 0CH731Z, 0CH7X1Z, 0DH501Z, 0DH531Z, 0DH541Z, 0DH571Z, 0DH581Z, 0DHP01Z, 0DHP31Z, 0DHP41Z, 0DHP71Z, 0DHP81Z, 0FHB01Z, 0FHB31Z, 0FHB41Z,0FHB71Z, 0FHB81Z, 0FHD01Z, 0FHD31Z, 0FHD41Z, 0FHD71Z, 0FHD81Z, 0HHT01Z, 0HHT31Z, 0HHT71Z, 0HHT81Z, 0HHTX1Z, 0HHU01Z, 0HHU31Z, 0HHU71Z, 0HHU81Z, 0HHUX1Z, 0HHV01Z, 0HHV31Z, 0HHV71Z, 0HHV81Z, 0HHVX1Z, 0HHW01Z, 0HHW31Z, 0HHW71Z, 0HHW81Z, 0HHWX1Z, 0HHX01Z, 0HHX31Z, 0HHX71Z, 0HHX81Z, 0HHXX1Z, 0JHS01Z, 0JHS31Z, 0JHT01Z, 0JHT31Z, 0JHV01Z, 0JHV31Z, 0JHW01Z, 0JHW31Z, 0UHC01Z, 0UHC31Z, 0UHC41Z, 0UHC71Z, 0UHC81Z, 0UHG01Z, 0UHG31Z, 0UHG41Z, 0UHG71Z, 0UHG81Z, 0UHGX1Z, 0VH001Z, 0VH031Z, 0VH041Z, 0VH071Z, 0VH081Z, 0WH001Z, 0WH031Z, 0WH041Z, 0WH101Z, 0WH131Z, 0WH141Z, 0WH201Z, 0WH231Z, 0WH241Z, 0WH301Z, 0WH331Z, 0WH341Z, 0WH401Z, 0WH431Z, 0WH441Z, 0WH501Z, 0WH531Z, 0WH541Z, 0WH601Z, 0WH631Z, 0WH641Z, 0WH801Z, 0WH831Z, 0WH841Z, 0WH901Z, 0WH931Z, 0WH941Z, 0WHB01Z, 0WHB31Z, 0WHB41Z, 0WHC01Z, 0WHC31Z, 0WHC41Z, 0WHD01Z, 0WHD31Z, 0WHD41Z, 0WHF01Z, 0WHF31Z, 0WHF41Z, 0WHG01Z, 0WHG31Z, 0WHG41Z, 0WHH01Z, 0WHH31Z, 0WHH41Z, 0WHJ01Z, 0WHJ31Z, 0WHJ41Z, 0WHK01Z, 0WHK31Z, 0WHK41Z, 0WHL01Z, 0WHL31Z, 0WHL41Z, 0WHM01Z, 0WHM31Z, 0WHM41Z, 0WHN01Z, 0WHN31Z, 0WHN41Z, 0WHP01Z, 0WHP31Z, 0WHP41Z, 0WHP71Z, 0WHP81Z, 0WHQ01Z, 0WHQ31Z, 0WHQ41Z, 0WHQ71Z, 0WHQ81Z, 0WHR01Z, 0WHR31Z, 0WHR41Z, 0WHR71Z, 0WHR81Z, 0XH201Z, 0XH231Z, 0XH241Z, 0XH301Z, 0XH331Z, 0XH341Z, 0XH401Z, 0XH431Z, 0XH441Z, 0XH501Z, 0XH531Z, 0XH541Z, 0XH601Z, 0XH631Z, 0XH641Z, 0XH701Z, 0XH731Z, 0XH741Z, 0XH801Z, 0XH831Z, 0XH841Z, 0XH901Z, 0XH931Z, 0XH941Z, 0XHB01Z, 0XHB31Z, 0XHB41Z, 0XHC01Z, 0XHC31Z, 0XHC41Z, 0XHD01Z, 0XHD31Z, 0XHD41Z, 0XHF01Z, 0XHF31Z, 0XHF41Z, 0XHG01Z, 0XHG31Z, 0XHG41Z, 0XHH01Z, 0XHH31Z, 0XHH41Z, 0XHJ01Z, 0XHJ31Z, 0XHJ41Z, 0XHK01Z, 0XHK31Z, 0XHK41Z, 0YH001Z, 0YH031Z, 0YH041Z, 0YH101Z, 0YH131Z, 0YH141Z, 0YH501Z, 0YH531Z, 0YH541Z, 0YH601Z, 0YH631Z, 0YH641Z, 0YH701Z, 0YH731Z, 0YH741Z, 0YH801Z, 0YH831Z, 0YH841Z, 0YH901Z, 0YH931Z, 0YH941Z, 0YHB01Z, 0YHB31Z, 0YHB41Z, 0YHC01Z, 0YHC31Z, 0YHC41Z, 0YHD01Z, 0YHD31Z, 0YHD41Z, 0YHF01Z, 0YHF31Z, 0YHF41Z, 0YHG01Z, 0YHG31Z, 0YHG41Z, 0YHH01Z, 0YHH31Z, 0YHH41Z, 0YHJ01Z, 0YHJ31Z, 0YHJ41Z, 0YHK01Z, 0YHK31Z, 0YHK41Z, 0YHL01Z, 0YHL31Z, 0YHL41Z, 0YHM01Z, 0YHM31Z, 0YHM41Z, 0YHN01Z, 0YHN31Z, 0YHN41Z, 3E00X05, 3E01305, 3E02305, 3E03005, 3E03305, 3E04005, 3E04305, 3E05005, 3E05305, 3E06005, 3E06305, 3E09305, 3E09705, 3E09X05, 3E0A305, 3E0B305, 3E0B705, 3E0BX05, 3E0C305, 3E0C705, 3E0CX05, 3E0D305, 3E0D705, 3E0DX05, 3E0E305, 3E0E705, 3E0E805, 3E0F305, 3E0F705, 3E0F805, 3E0G305, 3E0G705, 3E0G805, 3E0H305, 3E0H705, 3E0H805, 3E0J305, 3E0J705, 3E0J805, 3E0K305, 3E0K705, 3E0K805, 3E0L305, 3E0L705, 3E0M305, 3E0M705, 3E0N305, 3E0N705, 3E0N805, 3E0P305, 3E0P705, 3E0P805, 3E0Q305, 3E0Q705, 3E0R305, 3E0S305, 3E0U305, 3E0V305, 3E0W305, 3E0Y305, 3E0Y705, CW70NZZ, CW70YZZ, CW73NZZ, CW73YZZ, CW7GGZZ, CW7GYZZ, CW7N8ZZ, CW7NGZZ, CW7NNZZ, CW7NPZZ, CW7NYZZ, CW7YYZZ, D0000ZZ, D0001ZZ, D0002ZZ, D0003Z0, D0003ZZ, D0004ZZ, D0005ZZ, D0006ZZ, D0010ZZ, D0011ZZ, D0012ZZ, D0013Z0, D0013ZZ, D0014ZZ, D0015ZZ, D0016ZZ, D0060ZZ, D0061ZZ, D0062ZZ, D0063Z0, D0063ZZ, D0064ZZ, D0065ZZ, D0066ZZ, D0070ZZ, D0071ZZ, D0072ZZ, D0073Z0, D0073ZZ, D0074ZZ, D0075ZZ, D0076ZZ, D01097Z, D01098Z, D01099Z, D0109BZ, D0109CZ, D0109YZ, D010B7Z, D010B8Z, D010B9Z, D010BBZ, D010BCZ, D010BYZ, D01197Z, D01198Z, D01199Z, D0119BZ, D0119CZ, D0119YZ, D011B7Z, D011B8Z, D011B9Z, D011BBZ, D011BCZ, D011BYZ, D01697Z, D01698Z, D01699Z, D0169BZ, D0169CZ, D0169YZ, D016B7Z, D016B8Z, D016B9Z, D016BBZ, D016BCZ, D016BYZ, D01797Z, D01798Z, D01799Z, D0179BZ, D0179CZ, D0179YZ, D017B7Z, D017B8Z, D017B9Z, D017BBZ, D017BCZ, D017BYZ, D0Y07ZZ, D0Y08ZZ, D0Y0FZZ, D0Y0KZZ, D0Y17ZZ, D0Y18ZZ, D0Y1FZZ, D0Y1KZZ, D0Y67ZZ, D0Y68ZZ, D0Y6FZZ, D0Y6KZZ, D0Y77ZZ, D0Y78ZZ, D0Y7FZZ, D0Y7KZZ, D7000ZZ, D7001ZZ, D7002ZZ, D7003Z0, D7003ZZ, D7004ZZ, D7005ZZ, D7006ZZ, D7010ZZ, D7011ZZ, D7012ZZ, D7013Z0, D7013ZZ, D7014ZZ, D7015ZZ, D7016ZZ, D7020ZZ, D7021ZZ, D7022ZZ, D7023Z0,
| D7023ZZ, D7024ZZ, D7025ZZ, D7026ZZ, D7030ZZ, D7031ZZ, D7032ZZ, D7033Z0, D7033ZZ, D7034ZZ, D7035ZZ, D7036ZZ, D7040ZZ, D7041ZZ, D7042ZZ, D7043Z0, D7043ZZ, D7044ZZ, D7045ZZ, D7046ZZ, D7050ZZ, D7051ZZ, D7052ZZ, D7053Z0, D7053ZZ, D7054ZZ, D7055ZZ, D7056ZZ, D7060ZZ, D7061ZZ, D7062ZZ, D7063Z0, D7063ZZ, D7064ZZ, D7065ZZ, D7066ZZ, D7070ZZ, D7071ZZ, D7072ZZ, D7073Z0, D7073ZZ, D7074ZZ, D7075ZZ, D7076ZZ, D7080ZZ, D7081ZZ, D7082ZZ, D7083Z0, D7083ZZ, D7084ZZ, D7085ZZ, D7086ZZ, D71097Z, D71098Z, D71099Z, D7109BZ, D7109CZ, D7109YZ, D710B7Z, D710B8Z, D710B9Z, D710BBZ, D710BCZ, D710BYZ, D71197Z, D71198Z, D71199Z, D7119BZ, D7119CZ, D7119YZ, D711B7Z, D711B8Z, D711B9Z, D711BBZ, D711BCZ, D711BYZ, D71297Z, D71298Z, D71299Z, D7129BZ, D7129CZ, D7129YZ, D712B7Z, D712B8Z, D712B9Z, D712BBZ, D712BCZ, D712BYZ, D71397Z, D71398Z, D71399Z, D7139BZ, D7139CZ, D7139YZ, D713B7Z, D713B8Z, D713B9Z, D713BBZ, D713BCZ, D713BYZ, D71497Z, D71498Z, D71499Z, D7149BZ, D7149CZ, D7149YZ, D714B7Z, D714B8Z, D714B9Z, D714BBZ, D714BCZ, D714BYZ, D71597Z, D71598Z, D71599Z, D7159BZ, D7159CZ, D7159YZ, D715B7Z, D715B8Z, D715B9Z, D715BBZ, D715BCZ, D715BYZ, D71697Z, D71698Z, D71699Z, D7169BZ, D7169CZ, D7169YZ, D716B7Z, D716B8Z, D716B9Z, D716BBZ, D716BCZ, D716BYZ, D71797Z, D71798Z, D71799Z, D7179BZ, D7179CZ, D7179YZ, D717B7Z, D717B8Z, D717B9Z, D717BBZ, D717BCZ, D717BYZ, D71897Z, D71898Z, D71899Z, D7189BZ, D7189CZ, D7189YZ, D718B7Z, D718B8Z, D718B9Z, D718BBZ, D718BCZ, D718BYZ, D7Y08ZZ, D7Y0FZZ, D7Y18ZZ, D7Y1FZZ, D7Y28ZZ, D7Y2FZZ, D7Y38ZZ, D7Y3FZZ, D7Y48ZZ, D7Y4FZZ, D7Y58ZZ, D7Y5FZZ, D7Y68ZZ, D7Y6FZZ, D7Y78ZZ, D7Y7FZZ, D7Y88ZZ, D7Y8FZZ, D8000ZZ, D8001ZZ, D8002ZZ, D8003Z0, D8003ZZ, D8004ZZ, D8005ZZ, D8006ZZ, D81097Z, D81098Z, D81099Z, D8109BZ, D8109CZ, D8109YZ, D810B7Z, D810B8Z, D810B9Z, D810BBZ, D810BCZ, D810BYZ, D8Y07ZZ, D8Y08ZZ, D8Y0FZZ, D9000ZZ, D9001ZZ, D9002ZZ, D9003Z0, D9003ZZ, D9004ZZ, D9005ZZ, D9006ZZ, D9010ZZ, D9011ZZ, D9012ZZ, D9013Z0, D9013ZZ, D9014ZZ, D9015ZZ, D9016ZZ, D9030ZZ, D9031ZZ, D9032ZZ, D9033Z0, D9033ZZ, D9034ZZ, D9035ZZ, D9036ZZ, D9040ZZ, D9041ZZ, D9042ZZ, D9043Z0, D9043ZZ, D9044ZZ, D9045ZZ, D9046ZZ, D9050ZZ, D9051ZZ, D9052ZZ, D9053Z0, D9053ZZ, D9054ZZ, D9055ZZ, D9056ZZ, D9060ZZ, D9061ZZ, D9062ZZ, D9063Z0, D9063ZZ, D9064ZZ, D9065ZZ, D9066ZZ, D9070ZZ, D9071ZZ, D9072ZZ, D9073Z0, D9073ZZ, D9074ZZ, D9075ZZ, D9076ZZ, D9080ZZ, D9081ZZ, D9082ZZ, D9083Z0, D9083ZZ, D9084ZZ, D9085ZZ, D9086ZZ, D9090ZZ, D9091ZZ, D9092ZZ, D9093Z0, D9093ZZ, D9094ZZ, D9095ZZ, D9096ZZ, D90B0ZZ, D90B1ZZ, D90B2ZZ, D90B3Z0, D90B3ZZ, D90B4ZZ, D90B5ZZ, D90B6ZZ, D90D0ZZ, D90D1ZZ, D90D2ZZ, D90D3Z0, D90D3ZZ, D90D4ZZ, D90D5ZZ, D90D6ZZ, D90F0ZZ, D90F1ZZ, D90F2ZZ, D90F3Z0, D90F3ZZ, D90F4ZZ, D90F5ZZ, D90F6ZZ, D91097Z, D91098Z, D91099Z, D9109BZ, D9109CZ, D9109YZ, D910B7Z, D910B8Z, D910B9Z, D910BBZ, D910BCZ, D910BYZ, D91197Z, D91198Z, D91199Z, D9119BZ, D9119CZ, D9119YZ, D911B7Z, D911B8Z, D911B9Z, D911BBZ, D911BCZ, D911BYZ, D91397Z, D91398Z, D91399Z, D9139BZ, D9139CZ, D9139YZ, D913B7Z, D913B8Z, D913B9Z, D913BBZ, D913BCZ, D913BYZ, D91497Z, D91498Z, D91499Z, D9149BZ, D9149CZ, D9149YZ, D914B7Z, D914B8Z, D914B9Z, D914BBZ, D914BCZ, D914BYZ, D91597Z, D91598Z, D91599Z, D9159BZ, D9159CZ, D9159YZ, D915B7Z, D915B8Z, D915B9Z, D915BBZ, D915BCZ, D915BYZ, D91697Z, D91698Z, D91699Z, D9169BZ, D9169CZ, D9169YZ, D916B7Z, D916B8Z, D916B9Z, D916BBZ, D916BCZ, D916BYZ, D91797Z, D91798Z, D91799Z, D9179BZ, D9179CZ, D9179YZ, D917B7Z, D917B8Z, D917B9Z, D917BBZ, D917BCZ, D917BYZ, D91897Z, D91898Z, D91899Z, D9189BZ, D9189CZ, D9189YZ, D918B7Z, D918B8Z, D918B9Z, D918BBZ, D918BCZ, D918BYZ, D91997Z, D91998Z, D91999Z, D9199BZ, D9199CZ, D9199YZ, D919B7Z, D919B8Z, D919B9Z, D919BBZ, D919BCZ, D919BYZ, D91B97Z, D91B98Z, D91B99Z, D91B9BZ, D91B9CZ, D91B9YZ, D91BB7Z, D91BB8Z, D91BB9Z, D91BBBZ, D91BBCZ, D91BBYZ, D91D97Z, D91D98Z, D91D99Z, D91D9BZ, D91D9CZ, D91D9YZ, D91DB7Z, D91DB8Z, D91DB9Z, D91DBBZ, D91DBCZ, D91DBYZ, D91F97Z, D91F98Z, D91F99Z, D91F9BZ, D91F9CZ, D91F9YZ, D91FB7Z, D91FB8Z, D91FB9Z, D91FBBZ, D91FBCZ, D91FBYZ, D9Y07ZZ, D9Y08ZZ, D9Y0FZZ, D9Y17ZZ, D9Y18ZZ, D9Y1FZZ, D9Y37ZZ, D9Y38ZZ, D9Y47ZZ, D9Y48ZZ, D9Y4CZZ, D9Y4FZZ, D9Y57ZZ, D9Y58ZZ, D9Y5FZZ, D9Y67ZZ, D9Y68ZZ, D9Y6FZZ, D9Y77ZZ, D9Y78ZZ, D9Y7FZZ, D9Y87ZZ, D9Y88ZZ, D9Y8FZZ, D9Y97ZZ, D9Y98ZZ, D9Y9FZZ, D9YB7ZZ, D9YB8ZZ, D9YBCZZ, D9YBFZZ, D9YCCZZ, D9YCFZZ, D9YD7ZZ, D9YD8ZZ, D9YDCZZ, D9YDFZZ, D9YF7ZZ, D9YF8ZZ, DB000ZZ, DB001ZZ, DB002ZZ, DB003Z0, DB003ZZ, DB004ZZ, DB005ZZ, DB006ZZ, DB010ZZ, DB011ZZ, DB012ZZ, DB013Z0, DB013ZZ, DB014ZZ, DB015ZZ, DB016ZZ, DB020ZZ, DB021ZZ, DB022ZZ, DB023Z0, DB023ZZ, DB024ZZ, DB025ZZ, DB026ZZ, DB050ZZ, DB051ZZ, DB052ZZ, DB053Z0, DB053ZZ, DB054ZZ, DB055ZZ, DB056ZZ, DB060ZZ, DB061ZZ, DB062ZZ, DB063Z0, DB063ZZ, DB064ZZ, DB065ZZ, DB066ZZ, DB070ZZ, DB071ZZ, DB072ZZ, DB073Z0, DB073ZZ, DB074ZZ, DB075ZZ, DB076ZZ, DB080ZZ, DB081ZZ, DB082ZZ, DB083Z0, DB083ZZ, DB084ZZ, DB085ZZ, DB086ZZ, DB1097Z, DB1098Z, DB1099Z, DB109BZ, DB109CZ, DB109YZ, DB10B7Z, DB10B8Z, DB10B9Z, DB10BBZ, DB10BCZ, DB10BYZ, DB1197Z, DB1198Z, DB1199Z, DB119BZ, DB119CZ, DB119YZ, DB11B7Z, DB11B8Z, DB11B9Z, DB11BBZ, DB11BCZ, DB11BYZ, DB1297Z, DB1298Z, DB1299Z, DB129BZ, DB129CZ, DB129YZ, DB12B7Z, DB12B8Z, DB12B9Z, DB12BBZ, DB12BCZ, DB12BYZ, DB1597Z, DB1598Z, DB1599Z, DB159BZ, DB159CZ, DB159YZ, DB15B7Z, DB15B8Z, DB15B9Z, DB15BBZ, DB15BCZ, DB15BYZ, DB1697Z, DB1698Z, DB1699Z, DB169BZ, DB169CZ, DB169YZ, DB16B7Z, DB16B8Z, DB16B9Z, DB16BBZ, DB16BCZ, DB16BYZ, DB1797Z, DB1798Z, DB1799Z, DB179BZ, DB179CZ, DB179YZ, DB17B7Z, DB17B8Z, DB17B9Z, DB17BBZ, DB17BCZ, DB17BYZ, DB1897Z, DB1898Z, DB1899Z, DB189BZ, DB189CZ, DB189YZ, DB18B7Z, DB18B8Z, DB18B9Z, DB18BBZ, DB18BCZ, DB18BYZ, DBY07ZZ, DBY08ZZ, DBY0FZZ, DBY0KZZ, DBY17ZZ, DBY18ZZ, DBY1FZZ, DBY1KZZ, DBY27ZZ, DBY28ZZ, DBY2FZZ, DBY2KZZ, DBY57ZZ, DBY58ZZ, DBY5FZZ, DBY5KZZ, DBY67ZZ, DBY68ZZ, DBY6FZZ, DBY6KZZ, DBY77ZZ, DBY78ZZ, DBY7FZZ, DBY7KZZ, DBY87ZZ, DBY88ZZ, DBY8FZZ, DBY8KZZ, DD000ZZ, DD001ZZ, DD002ZZ, DD003Z0, DD003ZZ, DD004ZZ, DD005ZZ, DD006ZZ, DD010ZZ, DD011ZZ, DD012ZZ, DD013Z0, DD013ZZ, DD014ZZ, DD015ZZ, DD016ZZ, DD020ZZ, DD021ZZ, DD022ZZ, DD023Z0, DD023ZZ, DD024ZZ, DD025ZZ, DD026ZZ, DD030ZZ, DD031ZZ, DD032ZZ, DD033Z0, DD033ZZ, DD034ZZ, DD035ZZ, DD036ZZ, DD040ZZ, DD041ZZ, DD042ZZ, DD043Z0, DD043ZZ, DD044ZZ, DD045ZZ, DD046ZZ, DD050ZZ, DD051ZZ, DD052ZZ, DD053Z0, DD053ZZ, DD054ZZ, DD055ZZ, DD056ZZ, DD070ZZ, DD071ZZ, DD072ZZ, DD073Z0, DD073ZZ, DD074ZZ, DD075ZZ, DD076ZZ, DD1097Z, DD1098Z, DD1099Z, DD109BZ, DD109CZ, DD109YZ, DD10B7Z, DD10B8Z, DD10B9Z, DD10BBZ, DD10BCZ, DD10BYZ, DD1197Z, DD1198Z, DD1199Z, DD119BZ, DD119CZ, DD119YZ, DD11B7Z, DD11B8Z, DD11B9Z, DD11BBZ, DD11BCZ, DD11BYZ, DD1297Z, DD1298Z, DD1299Z, DD129BZ, DD129CZ, DD129YZ, DD12B7Z, DD12B8Z, DD12B9Z, DD12BBZ, DD12BCZ, DD12BYZ, DD1397Z, DD1398Z, DD1399Z, DD139BZ, DD139CZ, DD139YZ, DD13B7Z, DD13B8Z, DD13B9Z, DD13BBZ,
| DD13BCZ, DD13BYZ, DD1497Z, DD1498Z, DD1499Z, DD149BZ, DD149CZ, DD149YZ, DD14B7Z, DD14B8Z, DD14B9Z, DD14BBZ, DD14BCZ, DD14BYZ, DD1597Z, DD1598Z, DD1599Z, DD159BZ, DD159CZ, DD159YZ, DD15B7Z, DD15B8Z, DD15B9Z, DD15BBZ, DD15BCZ, DD15BYZ, DD1797Z, DD1798Z, DD1799Z, DD179BZ, DD179CZ, DD179YZ, DD17B7Z, DD17B8Z, DD17B9Z, DD17BBZ, DD17BCZ, DD17BYZ, DDY07ZZ, DDY08ZZ, DDY0FZZ, DDY0KZZ, DDY17ZZ, DDY18ZZ, DDY1CZZ, DDY1FZZ, DDY1KZZ, DDY27ZZ, DDY28ZZ, DDY2CZZ, DDY2FZZ, DDY2KZZ, DDY37ZZ, DDY38ZZ, DDY3CZZ, DDY3FZZ, DDY3KZZ, DDY47ZZ, DDY48ZZ, DDY4CZZ, DDY4FZZ, DDY4KZZ, DDY57ZZ, DDY58ZZ, DDY5CZZ, DDY5FZZ, DDY5KZZ, DDY77ZZ, DDY78ZZ, DDY7CZZ, DDY7FZZ, DDY7KZZ, DDY8CZZ, DDY8FZZ, DDY8KZZ, DF000ZZ, DF001ZZ, DF002ZZ, DF003Z0, DF003ZZ, DF004ZZ, DF005ZZ, DF006ZZ, DF010ZZ, DF011ZZ, DF012ZZ, DF013Z0, DF013ZZ, DF014ZZ, DF015ZZ, DF016ZZ, DF020ZZ, DF021ZZ, DF022ZZ, DF023Z0, DF023ZZ, DF024ZZ, DF025ZZ, DF026ZZ, DF030ZZ, DF031ZZ, DF032ZZ, DF033Z0, DF033ZZ, DF034ZZ, DF035ZZ, DF036ZZ, DF1097Z, DF1098Z, DF1099Z, DF109BZ, DF109CZ, DF109YZ, DF10B7Z, DF10B8Z, DF10B9Z, DF10BBZ, DF10BCZ, DF10BYZ, DF1197Z, DF1198Z, DF1199Z, DF119BZ, DF119CZ, DF119YZ, DF11B7Z, DF11B8Z, DF11B9Z, DF11BBZ, DF11BCZ, DF11BYZ, DF1297Z, DF1298Z, DF1299Z, DF129BZ, DF129CZ, DF129YZ, DF12B7Z, DF12B8Z, DF12B9Z, DF12BBZ, DF12BCZ, DF12BYZ, DF1397Z, DF1398Z, DF1399Z, DF139BZ, DF139CZ, DF139YZ, DF13B7Z, DF13B8Z, DF13B9Z, DF13BBZ, DF13BCZ, DF13BYZ, DFY07ZZ, DFY08ZZ, DFY0CZZ, DFY0FZZ, DFY0KZZ, DFY17ZZ, DFY18ZZ, DFY1CZZ, DFY1FZZ, DFY1KZZ, DFY27ZZ, DFY28ZZ, DFY2CZZ, DFY2FZZ, DFY2KZZ, DFY37ZZ, DFY38ZZ, DFY3CZZ, DFY3FZZ, DFY3KZZ, DG000ZZ, DG001ZZ, DG002ZZ, DG003Z0, DG003ZZ, DG005ZZ, DG006ZZ, DG010ZZ, DG011ZZ, DG012ZZ, DG013Z0, DG013ZZ, DG015ZZ, DG016ZZ, DG020ZZ, DG021ZZ, DG022ZZ, DG023Z0, DG023ZZ, DG025ZZ, DG026ZZ, DG040ZZ, DG041ZZ, DG042ZZ, DG043Z0, DG043ZZ, DG045ZZ, DG046ZZ, DG050ZZ, DG051ZZ, DG052ZZ, DG053Z0, DG053ZZ, DG055ZZ, DG056ZZ, DG1097Z, DG1098Z, DG1099Z, DG109BZ, DG109CZ, DG109YZ, DG10B7Z, DG10B8Z, DG10B9Z, DG10BBZ, DG10BCZ, DG10BYZ, DG1197Z, DG1198Z, DG1199Z, DG119BZ, DG119CZ, DG119YZ, DG11B7Z, DG11B8Z, DG11B9Z, DG11BBZ, DG11BCZ, DG11BYZ, DG1297Z, DG1298Z, DG1299Z, DG129BZ, DG129CZ, DG129YZ, DG12B7Z, DG12B8Z, DG12B9Z, DG12BBZ, DG12BCZ, DG12BYZ, DG1497Z, DG1498Z, DG1499Z, DG149BZ, DG149CZ, DG149YZ, DG14B7Z, DG14B8Z, DG14B9Z, DG14BBZ, DG14BCZ, DG14BYZ, DG1597Z, DG1598Z, DG1599Z, DG159BZ, DG159CZ, DG159YZ, DG15B7Z, DG15B8Z, DG15B9Z, DG15BBZ, DG15BCZ, DG15BYZ, DGY07ZZ, DGY08ZZ, DGY0FZZ, DGY0KZZ, DGY17ZZ, DGY18ZZ, DGY1FZZ, DGY1KZZ, DGY27ZZ, DGY28ZZ, DGY2FZZ, DGY2KZZ, DGY47ZZ, DGY48ZZ, DGY4FZZ, DGY4KZZ, DGY57ZZ, DGY58ZZ, DGY5FZZ, DGY5KZZ, DH020ZZ, DH021ZZ, DH022ZZ, DH023Z0, DH023ZZ, DH024ZZ, DH025ZZ, DH026ZZ, DH030ZZ, DH031ZZ, DH032ZZ, DH033Z0, DH033ZZ, DH034ZZ, DH035ZZ, DH036ZZ, DH040ZZ, DH041ZZ, DH042ZZ, DH043Z0, DH043ZZ, DH044ZZ, DH045ZZ, DH046ZZ, DH060ZZ, DH061ZZ, DH062ZZ, DH063Z0, DH063ZZ, DH064ZZ, DH065ZZ, DH066ZZ, DH070ZZ, DH071ZZ, DH072ZZ, DH073Z0, DH073ZZ, DH074ZZ, DH075ZZ, DH076ZZ, DH080ZZ, DH081ZZ, DH082ZZ, DH083Z0, DH083ZZ, DH084ZZ, DH085ZZ, DH086ZZ, DH090ZZ, DH091ZZ, DH092ZZ, DH093Z0, DH093ZZ, DH094ZZ, DH095ZZ, DH096ZZ, DH0B0ZZ, DH0B1ZZ, DH0B2ZZ, DH0B3Z0, DH0B3ZZ, DH0B4ZZ, DH0B5ZZ, DH0B6ZZ, DHY27ZZ, DHY28ZZ, DHY2FZZ, DHY37ZZ, DHY38ZZ, DHY3FZZ, DHY47ZZ, DHY48ZZ, DHY4FZZ, DHY5FZZ, DHY67ZZ, DHY68ZZ, DHY6FZZ, DHY77ZZ, DHY78ZZ, DHY7FZZ, DHY87ZZ, DHY88ZZ, DHY8FZZ, DHY97ZZ, DHY98ZZ, DHY9FZZ, DHYB7ZZ, DHYB8ZZ, DHYBFZZ, DHYCFZZ, DM000ZZ, DM001ZZ, DM002ZZ, DM003Z0, DM003ZZ, DM004ZZ, DM005ZZ, DM006ZZ, DM010ZZ, DM011ZZ, DM012ZZ, DM013Z0, DM013ZZ, DM014ZZ, DM015ZZ, DM016ZZ, DM1097Z, DM1098Z, DM1099Z, DM109BZ, DM109CZ, DM109YZ, DM10B7Z, DM10B8Z, DM10B9Z, DM10BBZ, DM10BCZ, DM10BYZ, DM1197Z, DM1198Z, DM1199Z, DM119BZ, DM119CZ, DM119YZ, DM11B7Z, DM11B8Z, DM11B9Z, DM11BBZ, DM11BCZ, DM11BYZ, DMY07ZZ, DMY08ZZ, DMY0FZZ, DMY0KZZ, DMY17ZZ, DMY18ZZ, DMY1FZZ, DMY1KZZ, DP000ZZ, DP001ZZ, DP002ZZ, DP003Z0, DP003ZZ, DP004ZZ, DP005ZZ, DP006ZZ, DP020ZZ, DP021ZZ, DP022ZZ, DP023Z0, DP023ZZ, DP024ZZ, DP025ZZ, DP026ZZ, DP030ZZ, DP031ZZ, DP032ZZ, DP033Z0, DP033ZZ, DP034ZZ, DP035ZZ, DP036ZZ, DP040ZZ, DP041ZZ, DP042ZZ, DP043Z0, DP043ZZ, DP044ZZ, DP045ZZ, DP046ZZ, DP050ZZ, DP051ZZ, DP052ZZ, DP053Z0, DP053ZZ, DP054ZZ, DP055ZZ, DP056ZZ, DP060ZZ, DP061ZZ, DP062ZZ, DP063Z0, DP063ZZ, DP064ZZ, DP065ZZ, DP066ZZ, DP070ZZ, DP071ZZ, DP072ZZ, DP073Z0, DP073ZZ, DP074ZZ, DP075ZZ, DP076ZZ, DP080ZZ, DP081ZZ, DP082ZZ, DP083Z0, DP083ZZ, DP084ZZ, DP085ZZ, DP086ZZ, DP090ZZ, DP091ZZ, DP092ZZ, DP093Z0, DP093ZZ, DP094ZZ, DP095ZZ, DP096ZZ, DP0B0ZZ, DP0B1ZZ, DP0B2ZZ, DP0B3Z0, DP0B3ZZ, DP0B4ZZ, DP0B5ZZ, DP0B6ZZ, DP0C0ZZ, DP0C1ZZ, DP0C2ZZ, DP0C3Z0, DP0C3ZZ, DP0C4ZZ, DP0C5ZZ, DP0C6ZZ, DPY07ZZ, DPY08ZZ, DPY0FZZ, DPY27ZZ, DPY28ZZ, DPY2FZZ, DPY37ZZ, DPY38ZZ, DPY3FZZ, DPY47ZZ, DPY48ZZ, DPY4FZZ, DPY57ZZ, DPY58ZZ, DPY5FZZ, DPY67ZZ, DPY68ZZ, DPY6FZZ, DPY77ZZ, DPY78ZZ, DPY7FZZ, DPY87ZZ, DPY88ZZ, DPY8FZZ, DPY97ZZ, DPY98ZZ, DPY9FZZ, DPYB7ZZ, DPYB8ZZ, DPYBFZZ, DPYC7ZZ, DPYC8ZZ, DPYCFZZ, DT000ZZ, DT001ZZ, DT002ZZ, DT003Z0, DT003ZZ, DT004ZZ, DT005ZZ, DT006ZZ, DT010ZZ, DT011ZZ, DT012ZZ, DT013Z0, DT013ZZ, DT014ZZ, DT015ZZ, DT016ZZ, DT020ZZ, DT021ZZ, DT022ZZ, DT023Z0, DT023ZZ, DT024ZZ, DT025ZZ, DT026ZZ, DT030ZZ, DT031ZZ, DT032ZZ, DT033Z0, DT033ZZ, DT034ZZ, DT035ZZ, DT036ZZ, DT1097Z, DT1098Z, DT1099Z, DT109BZ, DT109CZ, DT109YZ, DT10B7Z, DT10B8Z, DT10B9Z, DT10BBZ, DT10BCZ, DT10BYZ, DT1197Z, DT1198Z, DT1199Z, DT119BZ, DT119CZ, DT119YZ, DT11B7Z, DT11B8Z, DT11B9Z, DT11BBZ, DT11BCZ, DT11BYZ, DT1297Z, DT1298Z, DT1299Z, T129BZ, DT129CZ, DT129YZ, DT12B7Z, DT12B8Z, DT12B9Z, DT12BBZ, DT12BCZ, DT12BYZ, DT1397Z, DT1398Z, DT1399Z, DT139BZ, DT139CZ, DT139YZ, DT13B7Z, DT13B8Z, DT13B9Z, DT13BBZ, DT13BCZ, DT13BYZ, DTY07ZZ, DTY08ZZ, DTY0CZZ, DTY0FZZ, DTY17ZZ, DTY18ZZ, DTY1CZZ, DTY1FZZ, DTY27ZZ, DTY28ZZ, DTY2CZZ, DTY2FZZ, DTY37ZZ, DTY38ZZ, DTY3CZZ, DTY3FZZ, DU000ZZ, DU001ZZ, DU002ZZ, DU003Z0, DU003ZZ, DU004ZZ, DU005ZZ, DU006ZZ, DU010ZZ, DU011ZZ, DU012ZZ, DU013Z0, DU013ZZ, DU014ZZ, DU015ZZ, DU016ZZ, DU020ZZ, DU021ZZ, DU022ZZ, DU023Z0, DU023ZZ, DU024ZZ, DU025ZZ, DU026ZZ, DU1097Z, DU1098Z, DU1099Z, DU109BZ, DU109CZ, DU109YZ, DU10B7Z, DU10B8Z, DU10B9Z, DU10BBZ, DU10BCZ, DU10BYZ, DU1197Z, DU1198Z, DU1199Z, DU119BZ, DU119CZ, DU119YZ, DU11B7Z, DU11B8Z, DU11B9Z, DU11BBZ, DU11BCZ, DU11BYZ, DU1297Z, DU1298Z, DU1299Z, DU129BZ, DU129CZ, DU129YZ, DU12B7Z, DU12B8Z, DU12B9Z, DU12BBZ, DU12BCZ, DU12BYZ, DUY07ZZ, DUY08ZZ, DUY0CZZ, DUY0FZZ, DUY17ZZ, DUY18ZZ, DUY1CZZ, DUY1FZZ, DUY27ZZ, DUY28ZZ, DUY2CZZ, DUY2FZZ, DV000ZZ, DV001ZZ, DV002ZZ, DV003Z0, DV003ZZ, DV004ZZ, DV005ZZ, DV006ZZ, DV010ZZ, DV011ZZ, DV012ZZ, DV013Z0, DV013ZZ, DV014ZZ, DV015ZZ, DV016ZZ, DV1097Z, DV1098Z, DV1099Z, DV109BZ, DV109CZ, DV109YZ, DV10B7Z, DV10B8Z, DV10B9Z, DV10BBZ, DV10BCZ, DV10BYZ, DV1197Z, DV1198Z, DV1199Z, DV119BZ, DV119CZ, DV119YZ, DV11B7Z, DV11B8Z, DV11B9Z, DV11BBZ, DV11BCZ, DV11BYZ, DVY07ZZ, DVY08ZZ, DVY0CZZ, DVY0FZZ, DVY0KZZ, DVY17ZZ, DVY18ZZ, DVY1FZZ, DW010ZZ,
| DW011ZZ, DW012ZZ, DW013Z0, DW013ZZ, DW014ZZ, DW015ZZ, DW016ZZ, DW020ZZ, DW021ZZ, DW022ZZ, DW023Z0, DW023ZZ, DW024ZZ, DW025ZZ, DW026ZZ, DW030ZZ, DW031ZZ, DW032ZZ, DW033Z0, DW033ZZ, DW034ZZ, DW035ZZ, DW036ZZ, DW040ZZ, DW041ZZ, DW042ZZ, DW043Z0, DW043ZZ, DW044ZZ, DW045ZZ, DW046ZZ, DW050ZZ, DW051ZZ, DW052ZZ, DW053Z0, DW053ZZ, DW054ZZ, DW055ZZ, DW056ZZ, DW060ZZ, DW061ZZ, DW062ZZ, DW063Z0, DW063ZZ, DW064ZZ, DW065ZZ, DW066ZZ, DW1197Z, DW1198Z, DW1199Z, DW119BZ, DW119CZ, DW119YZ, DW11B7Z, DW11B8Z, DW11B9Z, DW11BBZ, DW11BCZ, DW11BYZ, DW1297Z, DW1298Z, DW1299Z, DW129BZ, DW129CZ, DW129YZ, DW12B7Z, DW12B8Z, DW12B9Z, DW12BBZ, DW12BCZ, DW12BYZ, DW1397Z, DW1398Z, DW1399Z, DW139BZ, DW139CZ, DW139YZ, DW13B7Z, DW13B8Z, DW13B9Z, DW13BBZ, DW13BCZ, DW13BYZ, DW1697Z, DW1698Z, DW1699Z, DW169BZ, DW169CZ, DW169YZ, DW16B7Z, DW16B8Z, DW16B9Z, DW16BBZ, DW16BCZ, DW16BYZ, DWY17ZZ, DWY18ZZ, DWY1FZZ, DWY27ZZ, DWY28ZZ, DWY2FZZ, DWY37ZZ, DWY38ZZ, DWY3FZZ, DWY47ZZ, DWY48ZZ, DWY4FZZ, DWY57ZZ, DWY58ZZ, DWY5FZZ, DWY5GDZ, DWY5GFZ, DWY5GGZ, DWY5GHZ, DWY5GYZ, DWY67ZZ, DWY68ZZ, and DWY6FZZ
Uncontrolled Diabetes Mellitus with or without complications | E1065 and E1165 | 1.05
Severe Protein Calorie Malnutrition | E40, E41, E42, and E43 | 1.13
Eating and Conduct Disorders | F5000, F5001, F5002, F509, F631, F6381, and F911 | 1.12
Infectious Disease | A150, A154, A155, A156, A157, A158, A159, A170, A171, A1781, A1782, A1783, A1789, A179, A1801, A1802, A1803, A1809, A1810, A1811, A1812, A1813, A1814, A1815, A1816, A1817, A1818, A182, A1831, A1832, A1839, A184, A1850, A1851, A1852, A1853, A1854, A1859, A186, A187, A1881, A1882, A1883, A1884, A1885, A1889, A190, A191, A192, A198, A199, A200, A201, A202, A203, A207, A208, A209, A210, A211, A212, A213, A217, A218, A219, A220, A221, A222, A227, A228, A229, A230, A231, A232, A233, A238, A239, A240, A241, A242, A243, A249, A250, A251, A259, A260, A267, A268, A269, A280, A281, A282, A288, A289, A300, A301, A302, A303, A304, A305, A308, A309, A310, A311, A312, A318, A319, A320, A3211, A3212, A327, A3281, A3282, A3289, A329, A35, A360, A361, A362, A363, A3681, A3682, A3683, A3684, A3685, A3686, A3689, A369, A3700, A3701, A3710, A3711, A3780, A3781, A3790, A3791, A380, A381, A388, A389, A390, A391, A392, A393, A394, A3950, A3951, A3952, A3953, A3981, A3982, A3983, A3984, A3989, A399, A400, A401, A403, A408, A409, A4101, A4102, A411, A412, A413, A414, A4150, A4151, A4152, A4153, A4159, A4181, A4189, A419, A420, A421, A422, A427, A4281, A4282, A4289, A429, A430, A431, A438, A439, A46, A480, A482, A483, A484, A4851, A4852, A488, A491, A70, A710, A711, A719, A740, A7489, A800, A801, A802, A8030, A8039, A804, A809, A8100, A8101, A8109, A811, A812, A8181, A8182, A8183, A8189, A819, A820, A821, A829, A830, A831, A832, A833, A834, A835, A836, A838, A839, A840, A841, A848, A849, A850, A851, A852, A858, A86, A870, A871, A872, A878, A879, A880, A881, A888, A89, A90, A91, A920, A921, A922, A9230, A9231, A9232, A9239, A924, A928, A929, A930, A931, A932, A938, A94, A950, A951, A959, A960, A961, A962, A968, A969, A980, A981, A982, A983, A984, A985, A988, A99, B0050, B0051, B0052, B0053, B0059, B010, B0111, B0112, B012, B0181, B0189, B019, B020, B021, B0221, B0222, B0223, B0224, B0229, B03, B04, B050, B051, B052, B053, B054, B0581, B0589, B059, B0600, B0601, B0602, B0609, B0681, B0682, B0689, B069, B08010, B08011, B0802, B0803, B0804, B0809, B0820, B0821, B0822, B083, B084, B085, B0860, B0861, B0862, B0869, B0870, B0871, B0872, B0879, B088, B09, B1001, B1009, B1081, B1082, B1089, B150, B159, B160, B161, B162, B169, B170, B1710, B1711, B172, B178, B179, B180, B181, B182, B188, B189, B190, B1910, B1911, B1920, B1921, B199, B20, B250, B251, B252, B258, B259, B260, B261, B262, B263, B2681, B2682, B2683, B2684, B2685, B2689, B269, B2700, B2701, B2702, B2709, B2710, B2711, B2712, B2719, B2780, B2781, B2782, B2789, B2790, B2791, B2792, B2799, B330, B331, B3320, B3321, B3322, B3323, B3324, B333, B338, B341, B471, B479, B950, B951, B952, B953, B954, B955, B958, B9730, B9731, B9732, B9733, B9734, B9735, B9739, G032, I673, J020, J0300, J0301, J202, K9081, L081, L444, and M60009 | 1.07
Drug and/or Alcohol Induced Mental Disorders | F10121, F10220, F10221, F10229, F10231, F10921, F11151, F1120, F11220, F11221, F11222, F11229, F1123, F1124, F11250, F11251, F11259, F11281, F11282, F11288, F1129, F11920, F11921, F11922, F11929, F1193, F11951, F12120, F12121, F12122, F12129, F12151, F12220, F12221, F12222, F12229, F12251, F12920, F12921, F12922, F12929, F12951, F13120, F13121, F13129, F13151, F13220, F13221, F13229, F13230, F13231, F13232, F13239, F13251, F13920, F13921, F13929, F13930, F13931, F13932, F13939, F13951, F14120, F14121, F14122, F14129, F14151, F14220, F14221, F14222, F14229, F1423, F14251, F14920, F14921, F14922, F14929, F14951, F15120, F15121, F15122, F15129, F15151, F15220, F15221, F15222, F15229, F1523, F15251, F15920, F15921, F15922, F15929, F1593, F15951, F16120, F16121, F16122, F16129, F16151, F16220, F16221, F16229, F16251, F16920, F16921, F16929, F16951, F17203, F17213, F17223, F17293, F18120, F18121, F18129, F18151, F18220, F18221, F18229, F18251, F18920, F18921, F18929, F18951, F19120, F19121, F19122, F19129, F19151, F19220, F19221, F19222, F19229, F19230, F19231, F19232, F19239, F19251, F19920, F19921, F19922, F19929, F19930, F19931, F19932, F19939, and F19951 | 1.03
Cardiac Conditions | I010, I011, I012, I110, I270, I330, I339, and I39 | 1.11
Gangrene | E0852, E0952, E1052, E1152, E1352, I70261, I70262, I70263, I70268, I70361, I70362, I70363, I70368, I70461, I70462, I70463, I70468, I70561, I70562, I70563, I70568, I70661, I70662, I70663, I70668, I70761, I70762, I70763, I70768, I7301, and I96 | 1.10
Chronic Obstructive Pulmonary Disease | J441, J470, J471, J860, J95850, J9610, J9611, J9612, J9620, J9621, J9622, Z9911, and Z9912 | 1.12
Artificial Openings—Digestive and Urinary | K9400, K9401, K9402, K9403, K9409, K9410, K9411, K9412, K9413, K9419, N990, N99520, N99521, K9400, K9401, K9402, K9403, K9409, K9410, K9411, K9412, K9413, K9419, N990, N99520, N99521, N99522, N99528, N99530, N99531, N99532, N99538, N9981, N9989, Z931, Z932, Z933, Z934, Z9350, Z9351, Z9352, Z9359, Z936 N99522, N99528, N99530, N99531, N99532, N99538, N9981, N9989, Z931, Z932, Z933, Z934, Z9350, Z9351, Z9352, Z9359, and Z936 | 1.08
Severe Musculoskeletal and Connective Tissue Diseases | L4050, L4051, L4052, L4053, L4054, L4059, M320, M3210, M3211, M3212, M3213, M3214, M3215, M3219, M328, M329, M4620, M4621, M4622, M4623, M4624, M4625, M4626, M4627, M4628, M86011, M86012, M86021, M86022, M86031, M86032, M86041, M86042, M86051, M86052, M86061, M86062, M86071, M86072, M8608, M8609, M86111, M86112, M86121, M86122, M86131, M86132, M86141, M86142, M86151, M86152, M86161, M86162, M86171, M86172, M8618, M8619, M86211, M86212, M86221, M86222, M86231, M86232, M86241, M86242, M86251, M86252, M86261, M86262, M86271, M86272, M8628, M8629, M86311, M86312, M86321, M86322, M86331, M86332, M86341, M86342, M86351, M86352, M86361, M86362, M86371, M86372, M8638, M8639, M86411, M86412, M86421, M86422, M86431, M86432, M86441, M86442, M86451, M86452, M86461, M86462, M86471, M86472, M8648, M8649, M86511, M86512, M86521, M86522, M86531, M86532, M86541, M86542, M86551, M86552, M86561, M86562, M86571, M86572, M8658, M8659, M86611, M86612, M86621, M86622, M86631, M86632, M86641, M86642, M86651, M86652, M86661, M86662, M86671, M86672, M8668, M8669, M868X0, M868X1, M868X2, M868X3, M868X4, M868X5, M868X6, M868X7, M868X8, and M869 | 1.09
Poisoning | T391X1A, T391X2A, T391X3A, T391X4A, T400X1A, T400X2A, T400X3A, T400X4A, T401X1A, T401X2A, T401X3A, T401X4A, T402X1A, T402X2A, T402X3A, T402X4A, T403X1A, T403X2A, T403X3A, T403X4A, T404X1A, T404X2A, T404X3A, T404X4A, T40601A, T40602A, T40603A, T40604A, T40691A, T40692A, T40693A, T40694A, T407X1A, T407X2A, T407X3A, T407X4A, T408X1A, T408X2A, T408X3A, T408X4A, T40901A, T40902A, T40903A, T40904A, T40991A, T40992A, T40993A, T40994A, T410X1A, T410X2A, T410X3A, T410X4A, T411X1A, T411X2A, T411X3A, T411X4A, T41201A, T41202A, T41203A, T41204A, T41291A, T41292A, T41293A, T41294A, T413X1A, T413X2A, T413X3A, T413X4A, T4141XA, T4142XA, T4143XA, T4144XA, T423X1A, T423X2A, T423X3A, T423X4A, T424X1A, T424X2A, T424X3A, T424X4A, T426X1A, T426X2A, T426X3A, T426X4A, T4271XA, T4272XA, T4273XA, T4274XA, T428X1A, T428X2A, T428X3A, T428X4A, T43011A, T43012A, T43013A, T43014A, T43021A, T43022A, T43023A, T43024A, T431X1A, T431X2A, T431X3A, T431X4A, T43201A, T43202A, T43203A, T43204A, T43211A, T43212A, T43213A, T43214A, T43221A, T43222A, T43223A, T43224A, T43291A, T43292A, T43293A, T43294A, T433X1A, T433X2A, T433X3A, T433X4A, T434X1A, T434X2A, T434X3A, T434X4A, T43501A, T43502A, T43503A, T43504A, T43591A, T43592A, T43593A, T43594A, T43601A, T43602A, T43603A, T43604A, T43611A, T43612A, T43613A, T43614A, T43621A, T43622A, T43623A, T43624A, T43631A, T43632A, T43633A, T43634A, T43691A, T43692A, T43693A, T43694A, T438X1A, T438X2A, T438X3A, T438X4A, T4391XA, T4392XA, T4393XA, T4394XA, T505X1A, T505X2A, T505X3A, T505X4A, T510X1A, T510X2A, T510X3A, T510X4A, T511X1A, T511X2A, T511X3A, T511X4A, T512X1A, T512X2A, T512X3A, T512X4A, T513X1A, T513X2A, T513X3A, T513X4A, T518X1A, T518X2A, T518X3A, T518X4A, T5191XA, T5192XA, T5193XA, T5194XA, T5391XA, T5392XA, T5393XA, T5394XA, T540X1A, T540X2A, T540X3A, T540X4A, T541X1A, T541X2A, T541X3A, T541X4A, T542X1A, T542X2A, T542X3A, T542X4A, T543X1A, T543X2A, T543X3A, T543X4A, T5491XA, T5492XA, T5493XA, T5494XA, T550X1A, T550X2A, T550X3A, T550X4A, T551X1A, T551X2A, T551X3A, T551X4A, T560X1A, T560X2A, T560X3A, T560X4A, T571X1A, T571X2A, T571X3A, T571X4A, T5801XA, T5802XA, T5803XA, T5804XA, T5811XA, T5812XA, T5813XA, T5814XA, T582X1A, T582X2A, T582X3A, T582X4A, T588X1A, T588X2A, T588X3A, T588X4A, T5891XA, T5892XA, T5893XA, T5894XA, T600X1A, T600X2A, T600X3A, T600X4A, T601X1A, T601X2A, T601X3A, T601X4A, T602X1A, T602X2A, T602X3A, T602X4A, T604X1A, T604X2A, T604X3A, T604X4A, T608X1A, T608X2A, T608X3A, T608X4A, T6091XA, T6092XA, T6093XA, T6094XA, T63001A, T63002A, T63003A, T63004A, T63011A, T63012A, T63013A, T63014A, T63021A, T63022A, T63023A, T63024A, T63031A, T63032A, T63033A, T63034A, T63041A, T63042A, T63043A, T63044A, T63061A, T63062A, T63063A, T63064A, T63071A, T63072A, T63073A, T63074A, T63081A, T63082A, T63083A, T63084A, T63091A, T63092A, T63093A, T63094A, T63111A, T63112A, T63113A, T63114A, T63121A, T63122A, T63123A, T63124A, T63191A, T63192A, T63193A, T63194A, T632X1A, T632X2A, T632X3A, T632X4A, T63301A, T63302A, T63303A, T63304A, T63311A, T63312A, T63313A, T63314A, T63321A, T63322A, T63323A, T63324A, T63331A, T63332A, T63333A, T63334A, T63391A, T63392A, T63393A, T63394A, T63411A, T63412A, T63413A, T63414A, T63421A, T63422A, T63423A, T63424A, T63431A, T63432A, T63433A, T63434A, T63441A, T63442A, T63443A, T63444A, T63451A, T63452A, T63453A, T63454A, T63461A, T63462A, T63463A, T63464A, T63481A, T63482A, T63483A, T63484A, T63511A, T63512A, T63513A, T63514A, T63591A, T63592A, T63593A, T63594A, T63611A, T63612A, T63613A, T63614A, T63621A, T63622A, T63623A, T63624A, T63631A, T63632A, T63633A, T63634A, T63691A, T63692A, T63693A, T63694A, T63711A, T63712A, T63713A, T63714A, T63791A, T63792A, T63793A, T63794A, T63811A, T63812A, T63813A, T63814A, T63821A, T63822A, T63823A, T63824A, T63831A, T63832A, T63833A, T63834A, T63891A, T63892A, T63893A, T63894A, T6391XA, T6392XA, T6393XA, T6394XA, T6401XA, T6402XA, T6403XA, T6404XA, T6481XA, T6482XA, T6483XA, T6484XA, T650X1A, T650X2A, T650X3A, T650X4A, T651X1A, T651X2A, T651X3A, and T651X4A | 1.11

Dated: September 25, 2015.
Madhura Valverde,
Executive Secretary to the Department, Department of Health and Human Services.

[FR Doc. 2015-24998 Filed 9-30-15; 8:45 am]

BILLING CODE 4120-01-P